DEPARTMENT OF LABOR

Mine Safety and Health Administration

30 CFR Part 72

RIN 1219-AA74

Diesel Particulate Matter Exposure of Underground Coal Miners; Corrections

AGENCY: Mine Safety and Health Administration (MSHA), Labor.

ACTION: Final rule; corrections and notice of information collection approval.

SUMMARY: This document contains corrections to the final rule published in the Federal Register on January 19, 2001, which addresses the exposure of underground coal miners to diesel particulate matter (dpm) (66 FR 5526).¹ As discussed in the preamble to the final rule, § 72.500 requires that all permissible equipment emit no more than 2.5 grams of dpm per hour. For nonpermissible, heavy-duty diesel-powered equipment, generators and compressors, § 72.501 specifies an interim limit of 5.0 grams of dpm per hour, and a final limit of 2.5 grams of dpm per hour. Similarly, § 72.502 specifies that nonpermissible light-duty equipment other than generators and compressors must emit no more than 5.0 grams of dpm per hour. Although the preamble discussion of these provisions made MSHA's intentions clear as to the emissions limits established in the final regulation, the preamble and the codified text of the final rule contained grammatical errors. Therefore, this correction document is necessary. These corrections are effective on May 21, 2001, the effective date of the final rule.

¹ The effective date for this final rule was delayed in a document published in the Federal Register on March 15, 2001 (66 FR 15033).

This document also provides notice that the information collection requirements contained in the final rule have been approved by the Office of Management and Budget (OMB).

EFFECTIVE DATE: These corrections are effective May 21, 2001.

FOR FURTHER INFORMATION CONTACT: David L. Meyer, Director; Office of Standards, Regulations, and Variances; MSHA, 4015 Wilson Boulevard, Arlington, Virginia 22203-1984. Mr. Meyer can be reached at Meyer-David@msha.gov (E-mail), 703-235-1910 (Voice), or 703-235-5551 (Fax).

SUPPLEMENTARY INFORMATION: On January 19, 2001, MSHA published a final rule that addresses the exposure of underground coal miners to diesel particulate matter (dpm) (66 FR 5526). The rule establishes new health standards for underground coal mines that use equipment powered by diesel engines and, among other things, requires operators of these underground mines to train miners about the hazards of exposure to dpm.

As discussed in the preamble to the final rule (66 FR 5669), § 72.500(a) requires that all permissible diesel-powered equipment introduced into an underground area of an underground coal mine emit no more than of 2.5 grams of dpm per hour as of the effective date of the final rule. Paragraph (b) requires all existing equipment to meet this limit as of July 19, 2002.

For non-permissible, heavy-duty diesel-powered equipment, generators and compressors introduced into an underground area of a coal mine, the final rule's preamble to § 72.501(a) specifies an interim emissions limit; that is, that this equipment must not emit more than 5.0 grams of dpm per hour on the effective date of the final rule. Paragraph (b) requires existing diesel equipment not to exceed this limit as of July 21, 2003. Paragraph (c) prohibits non-permissible, heavy-duty diesel-powered equipment from exceeding 2.5 grams per hour of dpm emissions as of January 19, 2005.

Similarly, the preamble discussion to § 72.502 specifies that nonpermissible light-duty diesel-powered equipment, other than generators and compressors, introduced into an underground area of a coal mine after the effective date of the final rule must not emit more than 5.0 grams of dpm per hour.

The regulatory text to each of the above provisions contains grammatical errors that may be confusing to the mining community. These errors were inadvertently included at the time of publication. This document corrects these errors, as well as others made in the preamble at the time of publication. These corrections are effective on May 21, 2001, the effective date of the final rule.

Procedural Requirements

MSHA believes that correcting these inadvertent errors in the final rule is not a rule to which the procedural requirements of 5 U.S.C. 553, or the various statutes and executive orders relating to rules, apply. However, if these corrections were deemed a rule, the notice and comment provisions of the Administrative Procedure Act do not apply based on the good cause exceptions in 5 U.S.C. 553(b)(B) and 553(d)(3). MSHA finds good cause not to provide further notice and comment in that additional notice and comment would be unnecessary and contrary to the public interest because the public was advised in the preamble to the final rule of MSHA's intention regarding each of the above regulatory provisions. Consequently, unnecessary confusion would result if these corrections are not made immediately.

The final rule published on January 19, 2001, contained information collection provisions that require an OMB Control Number. OMB has approved the information collection requirements and assigned OMB Control Number 1219-0124 to the information collection requirements of the final rule.

These corrections contain no additional information collection requirements. In addition, this action is not a “significant regulatory action” within the meaning of Executive Order 12866. Furthermore, this action is not a “major rule” within the meaning of the Small Business Regulatory Enforcement Act, or an “unfunded mandate” within the meaning of Title II of the Unfunded Mandates Reform Act of 1995. Finally, the action will not have Federalism implications within the meaning of Executive Order 13132, and a regulatory flexibility analysis is not required by the Regulatory Flexibility Act.

Accordingly, MSHA makes the following corrections to the final rule published on January 19, 2001.

I. Printing Errors in the Preamble

In the Federal Register issue of January 19, 2001 (66 FR 5526), make the following corrections to the preamble:

1. On page 5526, column 1, fourth paragraph of the Summary, line 3, change “coal” to “metal and nonmetal”.

2. On page 5672, column 2, first paragraph, line 8, after the word “determining” delete “the permissible fleet.” and insert the following:

“the total amount of dpm, expressed in grams/hour, produced by the engine over the test cycle described in ISO 8178. The particulate index is determined by calculating the quantity of air required to dilute that particulate to a concentration of 1 mg/m³. The quantity of dpm emitted from the machine is determined by multiplying the quantity of dpm emitted from the engine (gm/hr) by the filtration efficiency of the aftertreatment device (%). Therefore, in a very real sense, the Agency is using a significant portion of the concepts embodied in the particulate index in this final rule.

Why MSHA concluded that the emission limit for permissible equipment should be 2.5 grams per hour. The emission limit was determined with reference to technological and economic feasibility. While mine operators can use a variety of controls to reduce the emissions from a piece of permissible equipment, the two controls that can produce the significant reductions for permissible equipment are cleaner engines and filters. None of the cleaner engines produced in recent years has been approved for permissible applications. Accordingly, MSHA determined it should set the limit at what can be achieved technologically with filtration and the currently approved permissible engines.

As a reference point, MSHA calculated the emission limit that could be achieved if a high-efficiency filter were applied to the engine that produced the most dpm emission in the permissible fleet.”

3. On page 5678, column 1, the second paragraph is the heading of a section and should be italicized and read as follows: “Why the final rule uses a machine-based emission limit instead of requiring a high-efficiency filtration system.”

4. On page 5681, column 2, the first sentence of the second paragraph is a section heading and should be italicized and read as follows: “How did MSHA determine the emissions limit for newly introduced light-duty equipment?”

II. Additional Corrections to the Preamble

In the final regulations published on January 19, 2001 (66 FR 5526), make the following additional corrections to the preamble:

1. On page 5547, column 1, third paragraph, line 7, change “Commerica” to “commercial”.

2. On page 5563, change title of the figure from “Figure 5” to “Figure III-1”.

3. On page 5565, change title of the figure from “Figure 6” to “Figure III-2”.

4. On page 5568, change title of the figure from “Figure 7” to “Figure III-3”.

5. On page 5598, column 1, third paragraph, line 5, change “Footnote 42” to “Footnote 44”.

6. On page 5639, column 3, first paragraph, lines 5 and 6, change “Figures III-9 and III-10” to “Figures III-5 and Figure III-6”.

7. On page 5640, the title of the figure should read Figure III-5” and at the end of the caption insert “(Cohen and Higgins, 1995)”.

8. On page 5641, the title of the figure should read “Figure III-6” and at the end of the caption insert “(Cohen and Higgins, 1995)”.

9. On page 5655, column 3, fourth paragraph, line 19, change “Figure III-11” to “Figure III-7”.

10. On page 5656, column 2, first paragraph, line 1, change “Figure III-11” to “Figure III-7”.

11. On page 5656, change the title of the figure from Figure III-11” to “Figure III-7”.

12. On page 5683, Table 72.502-1, column 2, after the last line, insert the following:

“450≤kW<560 (600≤hp<750) | 0.20 g/kW-hr (0.15 g/bhp-hr)”
”kW≥560 (hp≥750) | 0.20 g/kW-hr (0.15 g/bhp-hr)”

13. On page 5685, column 1, fourth paragraph, line 15, insert “other” after the word “from”.

14. On page 5685, column 1, fifth paragraph, line 10, change “by the filter” to “by one minus the filter”.

15. On page 5687, column 3, first paragraph, line 24, change “within 6 months.” to “within 7 calendar days.”

16. On page 5687, column 3, first paragraph, line 31, at the end of the sentence insert “of the request.”

17. On page 5688, Table I-1, after the last row in the table insert:

“Initial Miner Health Training—60 days”

“Submission of Diesel Equipment Inventory—60 days”

18. On page 5689, column 1, third paragraph, line 15, insert “Light-duty” at the beginning of the sentence.

19. On page 5689, column 1, third paragraph, at the end of the paragraph, insert the following:

“Section 72.510 of the final rule addresses Miners Health Training. It was unchanged from the proposed rule. Miners will be required to be trained on: (1) The health risk associated with exposure to diesel particulate matter; (2) the methods used in the mine to control diesel particulate matter concentrations; (3) identification of the person responsible for maintaining those controls; and (4) actions miners must take to ensure the controls operate as intended. The final rule is the same as that proposed. Additionally, a record of that training must be maintained and made available to MSHA and the representatives of the miners. This section will take effect 60 days after the effective date of the regulation. The initial miners health training will have to be completed within that time frame and then annually thereafter. MSHA believes that 60 days is ample time to comply with this provision.

Section 72.520 of the final rule addresses the Diesel Equipment Inventory. This section will take effect 60 days after the effective date of the regulation. The initial Diesel Equipment Inventory containing a list of diesel equipment and exhaust emission controls must be completed and submitted within that time frame. Subsequent modifications to the inventory must be submitted within seven calendar days to the District Manager. MSHA believes that 60 days is ample time to comply with this provision. The inventory must be mailed or faxed to the MSHA District Office.”

20. On page 5695, column 3, sixth paragraph, line 4, change “number 7” to “number 8.”

PART 72—[CORRECTED]

III. Corrections to the Regulatory Text

In the final regulations published on January 19, 2001, (66 FR 5526) make the following corrections to the regulatory text of 30 CFR Part 72:

1. On page 5704, column 3, § 72.500, paragraph (a), line 4, remove the word “not”.

2. On page 5704, column 3, § 72.500, paragraph (b), line 4, remove the word “not”.

3. On page 5704, column 3, § 72.501, paragraph (a), line 6, remove the word “not”.

4. On page 5705, column 1, § 72.501, paragraph (b), line 7, remove the word “not”.

5. On page 5705, column 1, § 72.501, paragraph (c), line 7, remove the word “not”.

6. On page 5705, column 3, § 72.502, paragraph (a), line 3, remove the word “not”.

7. On page 5705, § 72.502, Table 72.502-1, column 2, add the following two entries at the end of the table:

“450≤kW<560 (600≤hp<750)”

“kW≥560 (hp≥750)”

8. On page 5705, § 72.502, Table 72.502-1, column 3, add the following two entries at the end of the table:

“0.20 g/kW-hr (0.15 g/bhp-hr)”

“0.20 g/kW-hr (0.15 g/bhp-hr)”

Signed at Arlington, VA, this 16th day of May, 2001.
David D. Lauriski,
Assistant Secretary for Mine Safety and Health.

[FR Doc. 01-12766 Filed 5-18-01; 8:45 am]

BILLING CODE 4510-43-P